DEPARTMENT OF LABOR

Pension and Welfare Benefits Administration

Working Group on Orphan Plans; Advisory Council on Employee Welfare and Pension Benefits Plan; Notice of Meeting

Pursuant to the authority contained in section 512 of the Employee Retirement Income Security Act of 1974 (ERISA), 29 U.S.C. 1142, a public meeting will be held Thursday, July 18, 2002, of the Advisory Council on Employee Welfare and Pension Benefit Plans Working Group assigned to study orphan plans, which are plans abandoned by all plan fiduciaries designated to manage and operate the plans and their assets. Without a plan sponsor or fudiciary, participants and beneficiaries cannot receive pension distributions or make inquiries about their benefits.

The session will take place in Room N-5437 A-C, U.S. Department of Labor Building, Second and Constitution Avenue, NW., Washington, DC 20210. The purpose of the open meeting, which will run from 9:30 a.m. to approximately 4 p.m., is for working group members to organize their goals for study of these plans and to hear testimony on the issue. Catherine Heron, Senior Vice President, Fund Business Management Group, Capital Research and Management in Los Angeles, Calif., is the Working Group chair, and David Wray, President of the Profit Sharing/401(k) Council of Chicago, Ill., is the vice chair.

Members of the public are encouraged to file a written statement pertaining to the topic by submitting 20 copies on or before July 9, 2002, to Sharon Morrissey, Executive Secretary, ERISA Advisory Council, U.S. Department of Labor, Room N-5677, 200 Constitution Avenue, NW., Washington, DC 20210. Individuals or representatives of organizations wishing to address the Working Group should forward their request to the Executive Secretary or telephone (202) 693-8668. Oral presentations will be limited to 20 minutes, but an extended statement may be submitted for the record. Individuals with disabilities, who need special accommodations, should contact Sharon Morrissey by July 9, at the address indicated in this notice.

Organizations or individuals may also submit statements for the record without testifying. Twenty (20) copies of such statements should be sent to the Executive Secretary of the Advisory Council at the above address. Papers will be accepted and included in the record of the meeting if received on or before July 9.

Signed at Washington, DC, this 25th day of June, 2002.
Ann L. Combs,
Assistant Secretary, Pension and Welfare Benefits Administration.

[FR Doc. 02-16593 Filed 7-1-02; 8:45 am]

BILLING CODE 4510-29-M